ENVIRONMENTAL PROTECTION AGENCY

[FRL-07033-5]

Determination of the Waste Isolation Pilot Plant's Compliance With Applicable Federal Environmental Laws for the Period 1998 to 2000

AGENCY: Environmental Protection Agency (EPA).

ACTION: Notice.

SUMMARY: Based on documentation submitted by the U.S. Department of Energy (DOE) for the Waste Isolation Pilot Plant (WIPP), the U.S. Environmental Protection Agency (EPA or “we”) determined that between 1998 and 2000, DOE operated the WIPP facility in compliance with applicable Federal statutes, regulations, and permit requirements designated in Section 9(a)(1) of the WIPP Land Withdrawal Act, as amended. The Secretary of Energy was notified of the determination via a letter from EPA Administrator Christine Todd Whitman dated August 7, 2001.

We made this determination under the authority of Section 9 of the WIPP Land Withdrawal Act (WIPP LWA). (Public Law 102-579 and 104-201.) Section 9(a)(1) of the WIPP LWA requires that, as of the date of the enactment of the WIPP LWA, DOE shall comply with respect to WIPP with: (1) Regulations for the management and storage of radioactive waste (40 CFR Part 191, Subpart A); (2) the Clean Air Act; (3) the Solid Waste Disposal Act; (4) the Safe Drinking Water Act; (5) the Toxic Substance Control Act; (6) the Comprehensive Environmental Response, Compensation and Liability Act; and (7) all other applicable Federal laws pertaining to public health and safety or the environment. Section 9(a)(2) of the WIPP LWA requires DOE biennially to submit to EPA documentation of continued compliance with the laws, regulations, and permit requirements set forth in section 9(a)(1). (DOE must also submit similar documentation of compliance with the Solid Waste Disposal Act to the State of New Mexico.) Section 9(a)(3) requires the Administrator of EPA to determine on a biennial basis, following the submittal of documentation of compliance by the Secretary of DOE, whether the WIPP is in compliance with the pertinent laws, regulations, and permit requirements, as set forth in section 9(a)(1).

We determined that for the period 1998 to 2000, the DOE-submitted documentation showed continued compliance with 40 CFR part 191, subpart A, the Clean Air Act, the Safe Drinking Water Act, the Toxic Substances Control Act, and the Comprehensive Environmental Response, Compensation, and Liability Act. With respect to other applicable Federal laws pertaining to public health and safety or the environment, as required by section 9(a)(1)(G), DOE's documentation also indicates that DOE was in compliance with the Clean Water Act, the Federal Insecticide, Fungicide, and Rodenticide Act (FIFRA), and certain statutes under the jurisdiction of the Department of Interior.

This determination is not in any way related to, or a part of, our certification decision regarding whether the WIPP complies with EPA's disposal regulations for transuranic radioactive waste at 40 CFR part 191. We issued the 1998 WIPP certification decision pursuant to section 8(d) of the WIPP LWA, separate from this regulatory action.

FOR FURTHER INFORMATION CONTACT: Nick Stone; telephone number: (214) 665-7226; address: WIPP Project Officer, Mail Code 6PD-N, U.S. Environmental Protection Agency, Region 6, 1445 Ross Avenue, Dallas, TX 75202.

Materials related to this determination have been placed in docket #A-98-49 located at the U.S. Environmental Protection Agency, Air Docket Section, Room M-1500, 401 M Street, SW., Washington, DC 20460. The docket is open for public inspection from 8 a.m. until 5:30 p.m., Monday through Friday, except on Federal holidays. A reasonable fee may be charged for photocopying services.

Dated: August 7, 2001.
Christine Todd Whitman,
Administrator.

[FR Doc. 01-20387 Filed 8-13-01; 8:45 am]

BILLING CODE 6560-50-M